DEPARTMENT OF ENERGY

Federal Energy Regulatory Commission

Combined Notice of Filings #1

Take notice that the Commission received the following exempt wholesale generator filings:

Docket Numbers: EG14-47-000.

Applicants: Panda Sherman Power, LLC.

Description: Notice of Self-Certification of Exempt Wholesale Generator Status of Panda Sherman Power, LLC.

Filed Date: 5/6/14.

Accession Number: 20140506-5028.

Comments Due: 5 p.m. ET 5/27/14.

Docket Numbers: EG14-48-000.

Applicants: Panda Temple Power, LLC.

Description: Notice of Self-Certification of Exempt Wholesale Generator Status of Panda Temple Power, LLC.

Filed Date: 5/6/14.

Accession Number: 20140506-5029.

Comments Due: 5 p.m. ET 5/27/14.

Docket Numbers: EG14-49-000.

Applicants: Panda Temple Power II, LLC.

Description: Notice of Self-Certification of Exempt Wholesale Generator Status of Panda Temple Power II, LLC.

Filed Date: 5/6/14.

Accession Number: 20140506-5030.

Comments Due: 5 p.m. ET 5/27/14.

Take notice that the Commission received the following electric rate filings:

Docket Numbers: ER10-2822-006; ER11-2112-005; ER10-2828-001; ER10-2285-004; ER10-2423-004; ER10-2404-004; ER12-2649-001; ER10-1725-001; ER11-2465-005; ER10-2994-010; ER10-3001-002; ER10-3002-001; ER10-3004-002; ER12-422-003; ER10-2301-002; ER10-2273-003; ER10-3010-001; ER11-2306-001; ER12-96-003; ER11-2488-004.

Applicants: Atlantic Renewable Projects II LLC, Blue Creek Wind Farm LLC, Casselman Windpower LLC, Central Maine Power Company, Flat Rock Windpower LLC, Flat Rock Windpower II LLC, Groton Wind, LLC, Hardscrabble Wind Power LLC, Iberdrola Renewables, LLC, Lempster Wind, LLC, Locust Ridge Wind Farm, LLC, Locust Ridge Wind Farm II, LLC, New England Wind, LLC, New York State Electric & Gas Corporatio, PEI Power II, LLC, Providence Heights Wind, LLC, Rochester Gas & Electric Corporation, South Chestnut LLC, Streator-Cayuga Ridge Wind Power LLC

Description: Supplement to December 30, 2013 Updated Market Power Analysis for the Northeast Region of the Iberdrola MBR Sellers.

Filed Date: 5/7/14.

Accession Number: 20140507-5140.

Comments Due: 5 p.m. ET 5/28/14.

Docket Numbers: ER11-2059-005.

Applicants: Midcontinent Independent System Operator, Inc.

Description: 2014-05-06 LTTR Reconciliation Compliance Filing to be effective 5/7/2014.

Filed Date: 5/6/14.

Accession Number: 20140506-5055.

Comments Due: 5 p.m. ET 5/27/14.

Docket Numbers: ER14-1751-001.

Applicants: C2K Energy, LLC.

Description: Amended MBR Tariff Application to be effective 6/22/2014.

Filed Date: 5/7/14.

Accession Number: 20140507-5036.

Comments Due: 5 p.m. ET 5/28/14.

Docket Numbers: ER14-1882-000.

Applicants: Monongahela Power Company.

Description: Monongahela Power Co. Reactive Power Rate Schedules to be effective 5/6/2014.

Filed Date: 5/6/14.

Accession Number: 20140506-5150.

Comments Due: 5 p.m. ET 5/27/14.

Docket Numbers: ER14-1883-000.

Applicants: Allegheny Energy Supply Company, LLC.

Description: Allegheny Energy Supply Co., LLC Reactive Power Rate Schedules to be effective 5/6/2014.

Filed Date: 5/6/14.

Accession Number: 20140506-5155.

Comments Due: 5 p.m. ET 5/27/14.

Docket Numbers: ER14-1884-000.

Applicants: Atlantic Renewable Projects II LLC.

Description: Supplement to Iberdrola NE MBR Sellers' Dec. 30, 2013 Triennial Filing to be effective 7/7/2014.

Filed Date: 5/6/14.

Accession Number: 20140506-5156.

Comments Due: 5 p.m. ET 5/27/14.

Docket Numbers: ER14-1885-000.

Applicants: Blue Creek Wind Farm LLC.

Description: Supplement to Iberdrola NE MBR Sellers' Dec. 30, 2013 Triennial Filing to be effective 7/7/2014.

Filed Date: 5/6/14.

Accession Number: 20140506-5157.

Comments Due: 5 p.m. ET 5/27/14.

Docket Numbers: ER14-1886-000.

Applicants: FirstEnergy Solutions Corp.

Description: FirstEnergy Solutions Corp. Reactive Power Rate Schedule FERC No. 1 to be effective 5/6/2014.

Filed Date: 5/6/14.

Accession Number: 20140506-5158.

Comments Due: 5 p.m. ET 5/27/14.

Docket Numbers: ER14-1887-000.

Applicants: Casselman Windpower LLC.

Description: Supplement to Iberdrola NE MBR Sellers' Dec. 30, 2013 Triennial Filing to be effective 7/7/2014.

Filed Date: 5/6/14.

Accession Number: 20140506-5159.

Comments Due: 5 p.m. ET 5/27/14.

Docket Numbers: ER14-1888-000.

Applicants: Groton Wind, LLC.

Description: Supplement to Iberdrola NE MBR Sellers' Dec. 30, 2013 Triennial Filing to be effective 7/7/2014.

Filed Date: 5/6/14.

Accession Number: 20140506-5160.

Comments Due: 5 p.m. ET 5/27/14.

Docket Numbers: ER14-1889-000.

Applicants: Hardscrabble Wind Power LLC.

Description: Supplement to Iberdrola NE MBR Sellers' Dec. 30, 2013 Triennial Filing to be effective 7/7/2014.

Filed Date: 5/6/14.

Accession Number: 20140506-5161.

Comments Due: 5 p.m. ET 5/27/14.

Docket Numbers: ER14-1890-000.

Applicants: Iberdrola Renewables, LLC.

Description: Supplement to Iberdrola NE MBR Sellers' Dec. 30, 2013 Triennial Filing to be effective 7/7/2014.

Filed Date: 5/6/14.

Accession Number: 20140506-5162.

Comments Due: 5 p.m. ET 5/27/14.

Docket Numbers: ER14-1891-000.

Applicants: Lempster Wind, LLC.

Description: Supplement to Iberdrola NE MBR Sellers' Dec. 30, 2013 Triennial Filing to be effective 7/7/2014.

Filed Date: 5/6/14.

Accession Number: 20140506-5163.

Comments Due: 5 p.m. ET 5/27/14.

Docket Numbers: ER14-1892-000.

Applicants: Locust Ridge Wind Farm, LLC.

Description: Supplement to Iberdrola NE MBR Sellers' Dec. 30, 2013 Triennial Filing to be effective 7/7/2014.

Filed Date: 5/6/14.

Accession Number: 20140506-5164.

Comments Due: 5 p.m. ET 5/27/14.

Docket Numbers: ER14-1893-000.

Applicants: Locust Ridge II, LLC.

Description: Supplement to Iberdrola NE MBR Sellers' Dec. 30, 2013 Triennial Filing to be effective 7/7/2014.

Filed Date: 5/6/14.

Accession Number: 20140506-5165.

Comments Due: 5 p.m. ET 5/27/14.

Docket Numbers: ER14-1894-000.

Applicants: New England Wind, LLC.

Description: Supplement to Iberdrola NE MBR Sellers' Dec. 30, 2013 Triennial Filing to be effective 7/7/2014.

Filed Date: 5/6/14.

Accession Number: 20140506-5166.

Comments Due: 5 p.m. ET 5/27/14.

Docket Numbers: ER14-1895-000.

Applicants: Providence Heights Wind, LLC.

Description: Supplement to Iberdrola NE MBR Sellers' Dec. 30, 2013 Triennial Filing to be effective 7/7/2014.

Filed Date: 5/6/14.

Accession Number: 20140506-5171.

Comments Due: 5 p.m. ET 5/27/14.

Docket Numbers: ER14-1896-000.

Applicants: South Chestnut LLC.

Description: Supplement to Iberdrola NE MBR Sellers' Dec. 30, 2013 Triennial Filing to be effective 7/7/2014.

Filed Date: 5/6/14.

Accession Number: 20140506-5172.

Comments Due: 5 p.m. ET 5/27/14.

Docket Numbers: ER14-1897-000.

Applicants: Streator-Cayuga Ridge Wind Power LLC.

Description: Supplement to Iberdrola NE MBR Sellers' Dec. 30, 2013 Triennial Filing to be effective 7/7/2014.

Filed Date: 5/6/14.

Accession Number: 20140506-5180.

Comments Due: 5 p.m. ET 5/27/14.

Docket Numbers: ER14-1898-000.

Applicants: Midcontinent Independent System Operator, Inc.

Description: 2014-05-07_SA 723_724 Allete-Bison 4 & 5 to be effective 5/8/2014.

Filed Date: 5/7/14.

Accession Number: 20140507-5093.

Comments Due: 5 p.m. ET 5/28/14.

Docket Numbers: ER14-1899-000.

Applicants: Union Electric Company.

Description: Submission of Construction Agreement to be effective 4/17/2014.

Filed Date: 5/7/14.

Accession Number: 20140507-5110.

Comments Due: 5 p.m. ET 5/28/14.

Docket Numbers: ER14-1900-000.

Applicants: Southwestern Electric Power Company.

Description: SWEPCO-NTEC Bearcat Tap to Sand Hill Delivery Point Agreement to be effective 4/17/2014.

Filed Date: 5/7/14.

Accession Number: 20140507-5123.

Comments Due: 5 p.m. ET 5/28/14.

Docket Numbers: ER14-1901-000.

Applicants: Southwest Power Pool, Inc.

Description: 2880 Rattlesnake GIA; Cancellation of 2299R3 Rattlesnake GIA to be effective 4/9/2014.

Filed Date: 5/7/14.

Accession Number: 20140507-5130.

Comments Due: 5 p.m. ET 5/28/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 7, 2014.
Kimberly D. Bose,
Secretary.

[FR Doc. 2014-11095 Filed 5-13-14; 8:45 am]

BILLING CODE 6717-01-P